DEPARTMENT OF AGRICULTURE

Food and Nutrition Service

7 CFR Parts 272, 274, and 280

[FNS-2015-0021]

RIN 0584-AE00

Supplemental Nutrition Assistance Program (SNAP): Disaster Supplemental Nutrition Assistance Program (D-SNAP); Withdrawal

AGENCY: Food and Nutrition Service (FNS), USDA.

ACTION: Proposed rule; withdrawal.

SUMMARY: This document informs the public that the Food and Nutrition Service (FNS) of the U.S. Department of Agriculture (USDA) is withdrawing the proposed rule titled Supplemental Nutrition Assistance Program (SNAP): Disaster Supplemental Nutrition Assistance Program (D-SNAP) that published in the Federal Register on May 10, 2016. This rule would have amended the SNAP regulations to establish procedures for planning, requesting and operating D-SNAP. The Department is withdrawing this proposed rule to maintain the flexibility to adapt D-SNAP to unique disaster situations. The importance of this flexibility became apparent as the Department adjusted traditional D-SNAP operations to accommodate the changing circumstances during the public health emergency. The proposed rule would have prevented the Department from enacting many of the successful responses utilized during the public health emergency to best serve households and State agencies in the aftermath of a disaster. After enacting these critical adaptations to D-SNAP design during the public health emergency, receiving feedback from D-SNAP listening sessions, and reviewing the comments received on the proposed rule, the Department is withdrawing the proposed rule to reduce the burden on State agencies and households responding to disasters.

DATES: As of September 27, 2024, the proposed rule published on May 10, 2016, at 81 FR 28738-28758, is officially withdrawn.

ADDRESSES: SNAP Program Development Division, Food and Nutrition Service, USDA, 1320 Braddock Place, Alexandria, VA 22314.

FOR FURTHER INFORMATION CONTACT: John Noble, Branch Chief, Modernization and Integration Branch, Program Development Division, Supplemental Nutrition Assistance Program, Food and Nutrition Service, 1320 Braddock Place, Alexandria, VA 22314, 703-305-2022.

SUPPLEMENTARY INFORMATION: The decision to withdraw the proposed rule and maintain the current D-SNAP regulations is allowable due to the authority granted by § 412 of the Stafford Act and § 5(h)(1) the Food and Nutrition Act (FNA) of 2008. The Stafford Act authorizes the Secretary of Agriculture to approve D-SNAP operations when affected areas receive a Presidential Major Disaster Declaration for Individual Assistance (IA) and commercial channels of food distribution are available. The FNA permits the Secretary to establish temporary emergency standards for program eligibility during a disaster without regard to section 4(c) of the FNA or the procedures set forth in the Administrative Procedure Act (Sec. 553 of title 5 of the U.S. Code). This means that if an unusual disaster situation warranted unique eligibility standards, the Department may establish separate eligibility standards for that disaster.

This action withdraws a proposed rule published in the Federal Register on May 10, 2016, (81 FR 28738) which proposed to revise the SNAP regulations to establish specific procedures for planning, requesting and operating D-SNAP. The rule also proposed to specify State responsibilities in planning, reporting, and monitoring D-SNAP.

Comments on Proposed Rule

During the proposed rule's 60-day comment period ending March 7, 2016, FNS received 19 comments. The comments were submitted by various entities, including advocate organizations; individuals that identified as SNAP participants; individuals that did not identify with a State agency or organization; and State/local government agencies. The comments were generally supportive of the proposed rule and current guidance.¹

¹ https://www.fns.usda.gov/sites/default/files/resource-files/D-SNAP_handbook.pdf.

Despite the support for the proposed rule, there have been significant changes to the program design resulting from the COVID-19 public health emergency. The public health emergency, which began on January 31, 2020, and ended on May 11, 2023, highlighted the need for regulatory flexibility to adapt to new programmatic challenges.

Historically, State agencies operate D-SNAPs via an in-person application and interview process. During the public health emergency, State agencies faced unprecedented challenges to protect the health and safety of households and staff while responding to more frequent natural disasters. The Department approved novel virtual D-SNAP components to ensure social distancing and leveraged regulatory flexibility to meet household needs. The regulatory flexibility allows the Department to tailor D-SNAP responses on a case-by-case basis to maintain program integrity and equitable access. Additionally, feedback solicited during D-SNAP listening sessions contributes to the decision to withdraw this rule.

Flexibility During Public Health Emergency

The Department would not be responsive to household needs under the proposed rule. Household safety, supply chain issues, and other changing circumstances during the public health emergency demanded the Department adapt traditional D-SNAP operations. Under the proposed rule, FNS would have been restricted from enacting many of the successful responses utilized during the public health emergency to best serve households.

Allowing virtual components in D-SNAP operations is a significant deviation from the design outlined in the proposed rule. The Department is also currently evaluating the use of virtual components in D-SNAP operations. Withdrawing this rule allows the Department to fully evaluate the responses implemented during the public health emergency and reconsider future disaster response needs and rulemaking.

February 2023 Listening Sessions

The Department solicited feedback from external partners on the planning, requesting, and operating of D-SNAP in February 2023. Over three listening sessions, FNS explored ways to improve meeting the immediate needs of families following a disaster, with the aim to improve existing D-SNAP guidance. FNS held separate sessions for community partners, electronic benefit transfer (EBT) vendors, and State agencies administering SNAP. During these sessions, participants provided valuable insight into what is working well with D-SNAP and what could be improved moving forward. Overall, the feedback from participants in these listening sessions highlighted the benefits of maintaining flexibility in disaster response requirements.

Withdrawal

After reviewing feedback received through listening sessions and comments on the proposed rule, and considering program flexibility during the public health emergency, the Department has determined that the proposed rule to revise the current disaster regulations should not be finalized. In withdrawing this proposed rule, the Department reaffirms its longstanding D-SNAP operation policies and practices, authorized by § 412 of the Stafford Act and § 5(h)(1) of the FNA. The Department acknowledges that the flexibility afforded by current practices and D-SNAP guidance are critical to reducing the burden on needy households and State agencies who are responding to the aftermath of a disaster.

The Department agrees with the issues raised by many commenters and will use this feedback to inform any necessary updates to D-SNAP guidance. The Department no longer believes that finalizing this now outdated rule would allow for maximum flexibility in disaster response or sufficiently address the comments on the proposed rule. Accordingly, the proposed rule to revise D-SNAP regulations published in the Federal Register on May 10, 2016, (81 FR 28738) is hereby withdrawn.

Tameka Owens,
Acting Administrator and Assistant Administrator, Food and Nutrition Service.

[FR Doc. 2024-22096 Filed 9-26-24; 8:45 am]

BILLING CODE 3410-30-P